FEDERAL RESERVE SYSTEM

Change in Bank Control Notices, Acquisition of Shares of Bank or Bank Holding Companies; Correction

This notice corrects a notice (FR Doc. E8-5250) published on pages 14250-24251 of the issue for Monday, March 17, 2008.

Under the Federal Reserve Bank of Chicago heading, the entry for Roger L. Lehmann and Elizabeth E. Lehmann, Harvard, Illinois, is revised to read as follows:

A. Federal Reserve Bank of Chicago (Burl Thornton, Assistant Vice President) 230 South LaSalle Street, Chicago, Illinois 60690-1414:

1. Roger L. Lehmann and Elizabeth E. Lehmann, Harvard, Illinois, Mark W. Lehmann, Belle Mead, New Jersey, and Philip J. Lehmann, Harvard, Illinois; to retain voting shares of Harvard Bancshares, Inc., Harvard, Illinois, and thereby indirectly retain voting shares of Harvard State Bank, Harvard, Illinois.

Comments on this application must be received by March 31, 2008.

Board of Governors of the Federal Reserve System, March 21, 2008.
Robert deV. Frierson,
Deputy Secretary of the Board.

[FR Doc. E8-6160 Filed 3-25-08; 8:45 am]

BILLING CODE 6210-01-S